DEPARTMENT OF THE INTERIOR

Fish and Wildlife Service

Notice of Intent To Prepare an Environmental Impact Statement for Amendment of an Incidental Take Permit and the 1997 Habitat Conservation Plan for Kern County Waste Facilities, Kern County, CA

AGENCY: Fish and Wildlife Service, Interior.

ACTION: Notice of intent.

SUMMARY: Pursuant to the National Environmental Policy Act (NEPA), the Fish and Wildlife Service (Service) advises the public that we intend to gather information necessary to prepare, in coordination with the Kern County Waste Management Department (KCWMD), a joint Draft Environmental Impact Statement/Environmental Impact Report (EIS/EIR) on the Amendment to the Kern County Waste Facilities Habitat Conservation Plan and permit number 830963 (Amendment 1). Amendment 1 is being prepared under Section 10(a)(1)(B) of the Endangered Species Act of 1973, as amended, (ESA). Amendment 1 addresses potential take of threatened and endangered species at Kern County waste facilities due to the proposed expansion of the permit area, new covered activities, and an increase in the number of species covered by Permit 830963. The term of Permit 830963 shall remain at 50 years, expiring in 2047. KCWMD intends to request an ESA permit amendment for 5 species federally listed as threatened or endangered and 14 unlisted species that may become listed during the term of the permit.

The Service provides this notice to: (1) Describe the proposed action and possible alternatives; (2) advise other Federal and State agencies, affected Tribes, and the public of our intent to prepare an EIS/EIR; (3) announce the initiation of a public scoping period; and (4) obtain suggestions and information on the scope of issues to be included in the EIS/EIR. Written comments will be accepted at the public meeting. In addition, you may submit written comments by mail or facsimile transmission.

DATES: Two public meetings will be held on: Wednesday, November 9, 2005 from 6 p.m. to 8 p.m. and Thursday, November 10, 2005 from 6 p.m. to 8 p.m. Written comments should be received on or before November 21, 2005.

ADDRESSES: The public meetings will be held at the following locations: Wednesday, November 9, 2005 at 2700 “M” Street, First Floor Conference Room, Bakersfield, CA 93301; and, Thursday, November 10, 2005 at the Mojave Veterans Building, 15580 “O” Street, Mojave, CA 93501. Written comments, or questions related to the preparation of the EIS/EIR and NEPA process should be submitted to Lori Rinek, Division Chief, Endangered Species Program, U.S. Fish and Wildlife Service, Sacramento Fish and Wildlife Office, 2800 Cottage Way, W-2605, Sacramento, California 95825; FAX (916) 414-6713.

FOR FURTHER INFORMATION CONTACT: Sheila Larsen, Fish and Wildlife Biologist, or Lori Rinek, Division Chief, Endangered Species Program, at the Sacramento Fish and Wildlife Office at (916) 414-6600.

SUPPLEMENTARY INFORMATION:

Reasonable Accommodation

Persons needing reasonable accommodations in order to attend and participate in the public meeting should contact Lori Rinek as soon as possible (see FOR FURTHER INFORMATION CONTACT). In order to allow sufficient time to process requests, please call no later than one week before the public meeting. Information regarding this proposed action is available in alternative formats upon request.

Background

Section 9 of the ESA and Federal regulations prohibit the take of fish and wildlife species listed as endangered or threatened (16 U.S.C. 1538). The term “take” means to harass, harm, pursue, hunt, shoot, wound, kill, trap, capture, or collect, or to attempt to engage in any such conduct (16 U.S.C. 1532). Harm includes significant habitat modification or degradation that actually kills or injures listed wildlife by significantly impairing essential behavioral patterns, including breeding, feeding, and sheltering [50 CFR 17.3(c)]. Under limited circumstances, the Service may issue permits to authorize incidental take of listed fish or wildlife; i.e., take that is incidental to, and not the purpose of, otherwise lawful activity. Regulations governing incidental take permits for threatened and endangered species are found in 50 CFR 17.32 and 17.22, respectively.

Although take of listed plant species is not prohibited under the ESA, and therefore cannot be authorized under an incidental take permit, plant species may be included on a permit in recognition of the conservation benefits provided to them under a habitat conservation plan. All species included on an incidental take permit would receive assurances under the Services “No Surprises” regulation [50 CFR 17.22(b)(5) and 17.32(b)(5)].

Permit number 830963 (issued October 24, 1997) provides for incidental take of 5 federally-listed threatened or endangered animals: San Joaquin kit fox (Vulpes macrotis mutica), Tipton kangaroo rat (Dipodomys nitratoides nitratoides), giant kangaroo rat, (Dipodomys ingens), blunt-nosed leopard lizard (Gambelia silus), desert tortoise (Gopherus agassizii); one plant, the Hoover's eriastrum (Eriastrum hooverii); and, one unlisted animal, the San Joaquin antelope squirrel (Ammospermophilus nelsoni), should it be listed during the 50-year term of the permit. Incidental take was permitted at 17 KCWMD facilities, including active and closed sanitary landfills and solid waste transfer stations. The total permit area was 2,063 acres, of which 1,151 acres of habitat were expected to be impacted. Activities covered by the original permit included excavation and on-going operation of sanitary landfills, which included activities that would result in: inadvertent burial during waste handling; species contact with potentially toxic materials, such as contact with contaminant-laden surface and subsurface leachates from in-place refuse and exposure to toxic gas emissions from in-place refuse; traffic, noise, lights, and other disturbance; and exposures to substantially elevated bacterial levels in decomposing refuse. In addition, potential for habitat loss and direct take of individuals at solid waste transfer stations was addressed.

Amendment 1 to permit number 830963 is needed because: (a) KCWMD has been given responsibility for remediating numerous historical “burn dumps” that were capped and abandoned several decades ago and must now be brought up to current regulatory standards; (b) KCWMD must acquire and manage large buffer zones around existing and new facilities; (c) KCWMD must expand facility capacity in some areas; and (d) there is a reasonable likelihood that additional species may be listed in the foreseeable future and would need to be addressed. Under Amendment 1, KCWMD proposes to add approximately 10,500 to 11,000 acres to the existing 2,063-acre permit area.

KCWMD is not requesting coverage for Hoover's eriastrum under Amendment 1 as it has been delisted. However, KCWMD is still required to perform all of its obligations to protect and conserve Hoover's eriastrum as described in the original permit. Under Amendment 1, KCWD proposes to extend the geographic scope and scope of permitted activities for the remaining 5 species covered by the original permit. Under Amendment 1, KCWMD also requests coverage for 13 additional species that may be listed in the future: Le Conte's thrasher (Toxostoma lecontei lecontei), short-nosed kangaroo rat (Dipodomys nitratoides brevinasus), San Joaquin pocket mouse (Perognathus inornatus), Mohave ground squirrel (Spermophilis mohavensis), Tulare grasshopper mouse (Onychomys torridus tularensis), western burrowing owl (Athene cunicularia), loggerhead shrike (Lanius ludovicianus), California horned lizard (Phrynosoma frontalis coronata), Bakersfield smallscale (Atriplex tularensis), lesser saltscale (Atriplex minuscule), Lost Hills saltbush (Atriplex vallicola), heartscale (Atriplex cordulata), and desert cymopterus (Cymopterus deserticola). Species may be added or deleted during the course of the development of the Amendment 1 proposal based on further analysis, new information, agency consultation, and public comment.

Under Amendment 1, KCWMD proposes to include up to 13,000 non-contiguous acres at numerous locations in Kern County, including the 2,063 acres covered by the original permit. The boundaries of the Amendment 1 area are generally defined as the area of KCWMD's 11 active and retired waste facilities, transfer stations, and burn dumps, including a 660 to 1320-foot buffer zone around these facilities. The proposed Amendment 1 area also includes a number of small (1 to 40-acre) historical burn dumps which KCWMD is remediating and maintaining to meet current health and safety standards.

Amendment 1 would address the following proposed covered activities: (a) Potential expansion of necessary facilities including transfer stations, landfills, and buffer zones; (b) construction of roads, drainage facilities, monitoring wells, temporary and permanent soil stockpiles, facilities for management of landfill gas, recycling facilities, waste transfer facilities, fences, and other operational facilities within the active and inactive landfill area and buffer zones; (c) long-term operation of waste facilities, followed by closure of those facilities and long-term post-closure maintenance of surrounding buffer areas; (d) remediation of burn dumps, primarily by re-capping and fencing; (e) monitoring, maintenance of facilities, management of dust and runoff, management of wind-blown trash, and other routine maintenance and management in buffer zones; and (f) the potential development of compatible facilities in buffer zones and remediated burn dumps (such as recycling or waste processing facilities, or other types of facilities compatible with the operation and zoning of sanitary landfills, transfer stations, and burn dumps). No new landfills would be sited.

The effects of proposed covered activities are expected to be minimized and mitigated through participation in a conservation program that would be fully described in Amendment 1 to the original Habitat Conservation Plan. The focus of this proposed conservation program is to provide long-term protection of covered species by protecting biological communities in areas of high ecological value within Kern County. Components of the proposed conservation program are now under consideration by the Service and KCWMD. These components will likely include: avoidance and minimization measures, monitoring, adaptive management, and mitigation measures consisting of preservation, restoration and enhancement of habitat.

Environmental Impact Statement/Report

KCWMD and the Service have selected Jud Monroe, Environmental Planning and Documentation (Monroe), to prepare the Draft EIS/EIR. The joint document will be prepared in compliance with NEPA and the California Environmental Quality Act (CEQA). Although Monroe will prepare the EIS/EIR, the Service will be responsible for the scope and content of the document for NEPA purposes, and KCWMD will be responsible for the scope and content of the document for CEQA purposes.

The EIS/EIR will consider the proposed action of amending permit number 830963, no action (no permit amendment), and a reasonable range of alternatives, including operational alternatives for KCWMD facilities that would involve different levels of incidental take from those likely to occur under the proposed action. A detailed description of the proposed action and alternatives will be included in the EIS/EIR. It is anticipated that several alternatives will be developed, which may vary by the level of conservation, impacts caused by the proposed activities, permit area, covered species, or a combination of these factors.

The EIS/EIR will also identify potentially significant impacts on biological resources, land use, air quality, water quality, mineral resources, water resources, economics, and other environmental resources that could occur directly or indirectly with implementation of the proposed action or alternatives. For all potentially significant impacts, the EIS/EIR will identify mitigation measures, where feasible, to reduce these impacts to a level below significance.

Environmental review of the EIS/EIR will be conducted in accordance with the requirements of NEPA (42 U.S.C. 4321 et seq.), its implementing regulations (40 CFR parts 1500-1508), other applicable regulations, and Service procedures for compliance with those regulations. We are publishing this notice in accordance with Section 1501.7 of NEPA to obtain suggestions and information from other agencies and the public on the scope of issues and alternatives to be addressed in the EIS/EIR. More specifically, we provide this notice: (1) To describe the proposed action and possible alternatives; (2) to advise other Federal and State agencies, affected Tribes, and the public of our intent to prepare an EIS/EIR; (3) to announce the initiation of a public scoping period; and (4) to obtain suggestions and information on the scope of issues to be included in the EIS/EIR. The primary purpose of the scoping process is to identify, rather than to debate, significant issues related to the proposed action. We invite written comments from interested parties to ensure that the full range of issues related to the permit request is identified. All comments received, including names and addresses, will become part of the official administrative record and may be made available to the public.

Dated: October 14, 2005.
Ken McDermond,
Deputy Manager, California/Nevada Operations Office, Sacramento, California.

[FR Doc. 05-20967 Filed 10-19-05; 8:45 am]

BILLING CODE 4310-55-P